DEPARTMENT OF LABOR

Employment and Training Administration

[TA-W-39,522]

JLG Industries Inc., Bedford, PA; Notice of Negative Determination Regarding Application for Reconsideration

By application post marked March 1, 2002, a worker requested administrative reconsideration of the Department's negative determination regarding eligibility to apply for Trade Adjustment Assistance (TAA), applicable to workers and former workers of the subject firm. The denial notice was signed on January 14, 2002, and published in the Federal Register on January 31, 2002 (67 FR 4749).

Pursuant to 29 CFR 90.18(c) reconsideration may be granted under the following circumstances:

(1) If it appears on the basis of facts not previously considered that the determination complained of was erroneous;

(2) If it appears that the determination complained of was based on a mistake in the determination of facts not previously considered; or

(3) If in the opinion of the Certifying Officer, a misinterpretation of facts or of the law justified reconsideration of the decision.

The petition for the workers of JLG Industries Inc., Bedford, Pennsylvania was denied because the “contributed importantly” group eligibility requirement of section 222(3) of the Trade Act of 1974, as amended, was not met. The “contributed importantly” test is generally demonstrated through a survey of customers of the workers' firm. The survey revealed that none of the respondents increased their purchases of imported scissor lift aerial work platforms, while decreasing their purchases from the subject firm during the relevant period. The investigation further revealed that the company did not import products like or directly competitive with scissor lift aerial work platforms produced at the subject firm during the relevant period.

The petitioner requested that the Department of Labor examine the facts pertaining to the company opening up a new plant located in Belgium that produces the same product as the subject firm.

A review of the initial investigation shows that the Belgium plant produced scissor lift aerial work platforms exclusively for the European market.

The company also filed a request dated March 5, 2002 for administrative reconsideration of the Department's negative determination regarding eligibility to apply for TAA. However, the request was received beyond the 30 day requirement to apply from the date the decision was published in the Federal Register.

That request expressed concerns that a major foreign producer of products, like or directly competitive with what the subject plant produced cut into the subject firm's market share after the closure of the subject firm.

The survey conducted by the Department of Labor examines the customer's purchases of products like or directly competitive with what the subject plant produces during the relevant time period. The survey requests information regarding customer's purchases from the subject firm, purchases from other domestic sources (including a breakout of imported products purchased from other domestic sources) and purchases of imported products “like or directly competitive” with what the subject plant produces. The survey shows that the respondents reported simultaneous declines in their purchases from the subject firm, other domestic sources and imports, indicating that the layoffs at the subject plant are a factor of reduced demand rather than “imports contributing importantly” to the layoffs at the subject plant.

Conclusion

After review of the application and investigative findings, I conclude that there has been no error or misinterpretation of the law or of the facts which would justify reconsideration of the Department of Labor's prior decision. Accordingly, the application is denied.

Signed at Washington, DC, this 6th day of May, 2002.
Edward A. Tomchick,
Director, Division of Trade Adjustment Assistance.

[FR Doc. 02-13537 Filed 5-29-02; 8:45 am]

BILLING CODE 4510-30-P